ENVIRONMENTAL PROTECTION AGENCY

40 CFR Part 180

[EPA-HQ-OPP-2013-0023; FRL-9392-9]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before August 19, 2013.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: A contact person, with telephone number and email address, is listed at the end of each pesticide petition summary. You may also reach each contact person by mail at Biopesticides and Pollution Prevention Division (BPPD) (7511P) or Registration Division (RD) (7505P), Office of Pesticide Programs, Environmental Protection Agency, 1200 Pennsylvania Ave. NW., Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available online at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

New Tolerance

1. PP 2E8083. (EPA-HQ-OPP-2012-0791). Interregional Research Project Number 4 (IR-4), IR-4 Project Headquarters, 500 College Rd. East, Suite 201 W., Princeton, NJ 08540, requests to establish tolerances in 40 CFR part 180 for residues of the herbicide linuron, (3-(3,4-dichlorophenyl)-1-methoxy-1-methylurea), and its metabolites convertible to 3,4-dichloroaniline, calculated as linuron, in or on cilantro, dried leaves at 27 parts per million (ppm); cilantro, fresh leaves at 3.0 ppm; coriander, seed at 0.01; dill, oil at 4.8 ppm; dill, seed at 0.3 ppm; dillweed, dried leaves at 7.1 ppm; dillweed, fresh leaves at 1.5 ppm; horseradish at 0.05 ppm; parsley, dry leaves at 8.3 ppm; parsley, leaves at 3.0 ppm; and pea, dry, seed at 0.08 ppm. Adequate enforcement methods are available for the determination of linuron in plant and animal commodities. A gas chromatography/mass spectroscopy (GC/MS) detection method involves hydrolysis of linuron and all metabolites by alkaline reflux to 3,4-dichloroaniline, followed by distillation of the 3,4-dichloroaniline into an acid solution. A second method involves extraction of linuron and metabolites using methanol and clean-up of the extract by using an ENVI-Carb solid phase extraction (SPE) column, elution of linuron and its metabolites using methanol followed by methanol-toluene, and concentration of the eluate. The eluate is dissolved in methanol, filtered, and analyzed for linuron and its metabolites using reversed phase high pressure liquid chromatography (HPLC) with MS/MS detection. Contact: Laura Nollen, (RD), (703) 305-7390, email address: nollen.laura@epa.gov.

2. PP 3E8170. (EPA-HQ-OPP-2013-0235). Interregional Research Project Number 4 (IR-4), IR-4 Project Headquarters, 500 College Rd. East, Suite 201 W., Princeton, NJ 08540, requests to establish tolerances in 40 CFR part 180 for residues of the insecticide chlorantraniliprole, 3-bromo-N-[4-chloro-2-methyl-6-[(methylamino)-carbonyl]phenyl]-1-(3-chloro-2-pyridinyl)-1H-pyrazole-5-carboxamide, in or on fruit, stone, group12, except cherry, chickasaw plum, and damson plum at 4.0 ppm; nut, tree, group 14-12 at 0.04 ppm; papaya at 4.0 ppm; passionfruit at 4.0 ppm; onion, green, subgroup 3-07B at 3.0 ppm; and spice, subgroup19B at 40 ppm. Since chlorantraniliprole and its metabolic degradates are not of toxicological concern, analytical methods are not applicable. Contact: Laura Nollen, (RD), (703) 305-7390, email address: nollen.laura@epa.gov.

3. PP 2F8131. (EPA-HQ-OPP-2013-0035). E.I. du Pont de Nemours and Co., 1007 Market St., Wilmington, DE 19898, requests to establish tolerances in 40 CFR part 180 for residues of the herbicide rimsulfuron, in or on sorghum, forage; sorghum, grain; and sorghum, stover at 0.01 ppm. The analytical method DuPont-32277 using reversed-phase high-performance liquid chromatography with electrospray ionization and tandem mass spectroscopy (HPLC/ESI-MS/MS) detection is used to measure and evaluate the chemical rimsulfuron. Contact: Mindy Ondish, (RD), (703) 605-0723, email address: ondish.mindy@epa.gov.

4. PP 2F8132. (EPA-HQ-OPP-2013-0034). E.I. du Pont de Nemours and Co., 1007 Market St., Wilmington, DE 19898, requests to establish tolerances in 40 CFR part 180 for residues of the herbicide nicosulfuron, in or on sorghum, forage at 0.4 ppm; sorghum, grain at 0.8 ppm; and sorghum, stover at 0.05 ppm. The analytical method DuPont-32277 using reversed-phase HPLC/ESI-MS/MS detection is used to measure and evaluate the chemical nicosulfuron and its metabolite, IN-V9367. Contact: Mindy Ondish, (RD), (703) 605-0723, email address: ondish.mindy@epa.gov.

5. PP 3F8179. (EPA-HQ-OPP-2013-0476). Dow AgroSciences, LLC, 9330 Zionsville Rd., Indianapolis, IN 46268, requests to establish a tolerance in 40 CFR part 180 for residues of the insecticide methoxyfenozide, including its metabolites and degradates. Compliance with the tolerance levels is to be determined by measuring only the active ingredient: Methoxyfenozide, (3-methoxy-2-methylbenzoic acid 2-(3,5-dimethylbenzoyl) -2-(1,1-dimethylethyl) hydrazide), in or on pineapple at 0.7 ppm. The proposed tolerance is supported by magnitude of residue studies in pineapple. Liquid chromatography-mass spectroscopy (LC-MS/MS) detection methodology is available for tolerance enforcement. Contact: Olga Odiott, (RD), (703) 308-9369, email address: odiott.olga@epa.gov.

Amended Tolerance

1. PP 2E8083. (EPA-HQ-OPP-2012-0791). Interregional Research Project Number 4 (IR-4), IR-4 Project Headquarters, 500 College Rd. East, Suite 201 W., Princeton, NJ 08540, requests to amend the tolerance in 40 CFR 180.184(c) by deleting the regional tolerance for residues of the herbicide linuron, (3-(3,4-dichlorophenyl)-1-methoxy-1-methylurea) and its metabolites convertible to 3,4-dichloroaniline, calculated as linuron, in or on parsley, leaves at 0.25 ppm. Contact: Laura Nollen, (RD), (703) 305-7390, email address: nollen.laura@epa.gov.

2. PP 3F8152. (EPA-HQ-OPP-2013-0411). Bayer CropScience, 2 TW Alexander Dr., Research Triangle Park, NC 27709, requests to amend the tolerance in 40 CFR 180.608 for residues of the insecticide spirodiclofen, 3-(2,4-dichlorophenyl)-2-oxo-1-oxaspiro[4,5]dec-3-en-4-yl ester 2,2-dimethylbutanoate, in or on citrus, oil from 20 ppm to 35 ppm. Adequate analytical methodology using LC/MS/MS detection is available for enforcement purposes. Contact: Rita Kumar, (RD), (703) 308-8291, email address: kumar.rita@epa.gov.

3. PP 3F8161. (EPA-HQ-OPP-2013-0477). BASF Corporation, 26 Davis Dr., P.O. Box 13528, Research Triangle Park, NC 27709-3528, requests to amend the tolerance in 40 CFR 180.666 for residues of the insecticide fluxapyroxad (BAS 700 F), 1H-pyrazole-4-carboxamide,3-(difluoromethyl)-1-methyl-N-(3',4',5'-trifluoro[1,1'-biphenyl]-2-yl)-, its metabolites, and degradates, in or on fruit, stone, group 12 from 2.0 ppm to 3.0 ppm. Independently validated analytical methods have been submitted for analyzing residues of parent fluxapyroxad (BAS 700 F) plus metabolites M700F008, M700F048, and M700F002 with appropriate sensitivity in/on fruit, stone, group 12 crops, represented by cherry, peach, and plum for which tolerances have been established. Contact: Olga Odiott, (RD), (703) 308-9369, email address: odiott.olga@epa.gov.

New Tolerance Exemption

1. PP 2E8094. (EPA-HQ-OPP-2013-0265). The Clorox Company (Clorox), 1221 Broadway, Oakland, CA 94612-1888, requests to establish an exemption from the requirement of tolerance for residues of saturated aliphatic acyclic linear primary alcohols, aldehydes, and acids, under 40 CFR 180.940, when used as pesticide inert ingredients (fragrances) in pesticide formulations used on food-contact surfaces when applied/used in indoor residential settings at a maximum rate of 0.025%. Because Clorox is petitioning for an exemption from the requirement of a tolerance, an enforcement analytical method is not needed. Contact: David Lieu, (RD), (703) 305-0079, email address: lieu.david@epa.gov.

2. PP 2E8116. (EPA-HQ-OPP-2013-0286). OhSo Clean, Inc., 315 Pacific Ave., San Francisco, CA 94111, requests to establish an exemption from the requirement of a tolerance for residues of copper sulfate pentahydrate (Chemical Abstracts Service Registry Number (CAS No.) 7758-99-8), under 40 CFR 180.940(a), when used as a pesticide inert ingredient in antimicrobial pesticide formulations applied to food-contact surfaces in public eating places, dairy processing equipment, and food processing equipment and utensils. An analytical method is not required for enforcement purposes since the Agency is establishing an exemption from the requirement of a tolerance without any numerical limitation. Contact: David Lieu, (RD), (703) 305-0079, email address: lieu.david@epa.gov.

3. PP 2F7998. (EPA-HQ-OPP-2013-0102). Linde Electronics and Specialty Gases, One Greenwich St., Suite 100, Stewartsville, NJ 08886, requests to establish an exemption from the requirement of a tolerance for residues of the insecticide ethyl formate in or on fumigated agricultural commodities. The GC analytical method is available to EPA for the detection and measurement of the pesticide residues. Contact: Cheryl Greene, (BPPD), (703) 308-0352, email address: greene.cheryl@epa.gov.

4. PP 3F8149. (EPA-HQ-OPP-2013-0253). Bayer CropScience LP, Biologics, P.O. Box 12014, 2 T.W. Alexander Dr., Research Triangle Park, NC 27709, requests to establish an exemption from the requirement of a tolerance for residues of the insecticide Streptomyces microflavus, strain AQ 6121, in or on all agricultural commodities. The petitioner believes no analytical method is needed because it is expected that, when used as proposed, Streptomyces microflavus, strain AQ 6121, would not result in residues of toxicological concern. Contact: Michael Glikes, (BPPD), (703) 305-6231, email address: glikes.michael@epa.gov.

5. PP IN-10547. (EPA-HQ-OPP-2013-0444). Oro-Agri, Inc., 990 Trophy Club Dr., Trophy Club, TX 76262, requests to establish an exemption from the requirement of a tolerance for residues of sweet orange peel tincture (CAS No. 8028-48-6) under 40 CFR 180.910 for pre- and post-harvest crops when used as a pesticide inert ingredient (surfactant and fragrance) when contained at concentrations up to 10% in pesticide formulations and applied to agricultural crops, pre-plant through post-harvest. The petitioner believes no analytical method is needed because this information is not required for the establishment of a tolerance exemption. Contact: Lisa Austin, (RD), (703) 305-7894, email address: austin.lisa@epa.gov.

6. PP IN-10553. (EPA-HQ-OPP-2013-0284). Syngenta Crop Protection, LLC, P.O. Box 18300, Greensboro, NC 27419‐8300, requests to establish an exemption from the requirement of a tolerance for residues of polyurethane‐type polymers (CAS Nos. 1161844‐26‐3, 1161844‐30‐9, 1161844‐43‐4, 1161844‐51‐4, 1161844‐53‐6, 693252‐31‐2, 162993‐60‐4, and 630102‐86‐2), under 40 CFR 180.960, when used as a pesticide inert ingredient (carrier) in or on raw agricultural commodities and food products. Tolerance exemption descriptors for polymers produced by the reaction of either 1,6‐hexane-diisocyanate; 2,4,4‐trimethyl‐1,6‐ hexanediisocyanate; 5‐isocyanato‐1‐ (isocyanatomethyl)‐1,3,3‐trimethyIcyclohexane (isophoronediisocyanate); 4,4′‐ methylene‐bis‐1, 1′‐cyclohexanediisocyanate; 4,4′‐methylene‐bis‐1,1′benzyldiisocyanate; or 1,3‐bis‐(2‐isocyanatopropan‐2‐yl)benzene with polyethylenglycol and end‐capped with one or a mixture of more than one of octanol, decanol, dodecanol, tetradecanol, hexadecanol, octadecanol, and octadec‐9‐enol or polyethyleneglycol ethers of octanol, decanol, dodecanol, tetradecanol, hexadecanol, octadecanol, and octadec‐9‐enol. An analytical method to determine the molecular weight of the polymer is dynamic light scattering. The petitioner believes no analytical method is needed because this information is not required for the establishment of a tolerance exemption. Contact: William D. Cutchin, (RD), (703) 305-7990, email address: cutchin.william@epa.gov.

7. PP IN-10559. (EPA-HQ-OPP-2013-0383). Evonik Goldschmidt Corp., P.O. Box 1299, Hopewell, VA 23860, requests to establish an exemption from the requirement of a tolerance for residues of 2,5-furandione, polymer with ethenylbenzene, hydrolyzed, 3-(dimethylamino)propyl imide, imide with polyethylene-polypropylene glycol 2-aminopropyl Me ether, 2,2'-(1, 2-diazenediyl)bis[2-methylbutanenitrile]- initiated, minimum number average molecular weight (in AMU) 5,816 (CAS No. 1062609-13-5), under 40 CFR 180.960, when used as a pesticide inert ingredient (functioning as a dispersant) in pesticide formulations. The petitioner believes no analytical method is needed because this information is not required for the establishment of a tolerance exemption. Contact: David Lieu, (RD), (703) 305-0079, email address: lieu.david@epa.gov.

8. PP IN-10565. (EPA-HQ-OPP-2013-0467). Huntsman Corp., 8600 Gosling Rd., The Woodlands, TX 77381, requests to establish an exemption from the requirement of a tolerance for residues of cumenesulfonic acid and its ammonium, calcium, magnesium, potassium, sodium, and zinc salts with no limits when used as pesticide inert ingredients (surfactants, related adjuvants of surfactants) in pesticide formulations under 40 CFR 180.920 and 180.930, in or on all the raw agricultural commodities, including the following with Chemical Abstracts Service Registry Numbers (CASRNs): Benzenesulfonic acid, 4-(1-methylethyl)-, sodium salt (15763-76-5); benzenesulfonic acid, 4-(1-methylethyl)- (16066-35-6); benzenesulfonic acid, 4-(1-methylethyl)-, potassium salt (164524-02-1); benzenesulfonic acid, (1-methylethyl)-, potassium salt (28085-69-0); benzenesulfonic acid, (1-methylethyl)-, sodium salt (1:1) (28348-53-0); benzenesulfonic acid, 2(or 4)-(1-methylethyl)- (28631-63-2); benzene, (1-methylethyl)-, monosulfo deriv., sodium salt (1:1) (32073-22-6); benzenesulfonic acid, (1-methylethyl)-, ammonium salt (1:1) (37475-88-0); benzenesulfonic acid, (1-methylethyl)- (37953-05-2); benzenesulfonic acid, (1-methylethyl)-, magnesium salt (90959-88-9). Prior to the submission of this petition to add cumenesulfonate CASRNs, the EPA reapproved toluenesulfonate and xylenesulfonate hydrotropes in the EPA Decision Documents dated 9/14/2006 and 6/30/2006. The combined documents are available at http://www.epa.gov/opprd001/inerts/xylenesulfonic.pdf. Huntsman Corp. is relying on the information in that combined EPA Decision Document to support this petition which includes a chemistry that was also in the Screening Information Data Set (SIDS) Initial Assessment Report for hdrotropes. The SIDS hydrotropes category included cumenesulfonates, toluenesulfonates, and xylenesulfonates. In fact, cumenesulfonate data was used to support the reassessment of the toluenesulfonates and xylenesulfonates in the EPA Decision Document. Huntsman Corp. does not expect the addition of these cumenesulfonate CASRNs to result in additional exposure or risk, and no new data is being submitted with this petition. The petitioner believes no analytical method is needed because this information is not required for the establishment of a tolerance exemption. Contact: William D. Cutchin, (RD), (703) 305-7990, email address: cutchin.william@epa.gov.

Amended Tolerance Exemption

1. PP IN-10544. (EPA-HQ-OPP-2013-0210). Akzo Nobel Surface Chemistry, LLC, 525 West Van Buren, Chicago, IL 60607-3823, requests to amend an exemption from the requirement of a tolerance under 40 CFR 180.920, 180.930, or 180.960, for residues of [alpha]-alkyl-[omega]-hydroxypoly (oxypropylene) and/or poly(oxyethylene) polymers where the alkyl chain contains a minimum of six carbons, and alkyl-w-hydroxypoly (oxypropylene) and/or poly (oxyethylene) polymers where the alkyl chain contains a minimum of six carbons, minimum number average molecular weight (in AMU) 1,100 in or on the raw agricultural commodity growing crops at no limitation. An analytical method is not required for enforcement purposes since the Agency is establishing an exemption from the requirement of a tolerance without any numerical limitation. Contact: William D. Cutchin, (RD), (703) 305-7990, email address: cutchin.william@epa.gov.

2. PP IN-10551. (EPA-HQ-OPP-2013-0381). Akzo Nobel Surface Chemistry, LLC, 909 Mueller Dr., Chattanooga, TN 37406, requests to revise an existing exemption from the requirement of a tolerance for modified acrylic polymers in 40 CFR 180.960. Akzo Nobel Surface Chemistry, LLC, is requesting that the exemption be revised to include lauryl methacrylate by inserting lauryl methacrylate after hydroxyethyl acrylate and before the following text “and its sodium, potassium, ammonium, monoethanolamine and triethanolamine salts; the resulting polymer having a minimum number average molecular weight (in amu), 1200.” This entry begins with the following: Styrene, copolymers with acrylic acid. The petitioner believes no analytical method is needed because this information is not required for the establishment of a tolerance exemption. Contact: Mark Dow, (RD), (703) 305-5533, email address: dow.mark@epa.gov.

List of Subjects

Environmental protection, Agricultural commodities, Feed additives, Food additives, Pesticides and pests, Reporting and recordkeeping requirements.

Dated: July 11, 2013.
Lois Rossi,
Director, Registration Division, Office of Pesticide Programs.

[FR Doc. 2013-17378 Filed 7-18-13; 8:45 am]

BILLING CODE 6560-50-P